DEPARTMENT OF LABOR

Employment and Training Administration

[TA-W-62,434]

Arrow Home Fashions, Division Of BCP Home, Inc., Including On-Site Leased Workers From Adecco and Select Personnel, Anaheim, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 30, 2007, applicable to workers of Arrow Home Fashions, including on-site leased workers of Adecco and Select Personnel, Anaheim, California. The notice was published in the Federal Register on December 11, 2007 (72 FR 70346).

At the request of the State agency, the Department reviewed the certification for workers of the subject firm. The workers were engaged in employment related to the production of bedding products. New information shows that due to a change in ownership in April 2008, BCP Home, Inc. is the parent firm of Arrow Home Fashions. Workers separated from employment at the subject firm had their wages reported under a separate unemployment insurance (UI) tax account for Arrow Home Fashions, Division of BCP Homes, Inc.

Accordingly, the Department is amending the certification to properly reflect this matter.

The intent of the Department's certification is to include all workers of Arrow Home Fashions, Division of BCP Home, Inc. Anaheim, California who were adversely affected by a shift in production of bedding products to China.

The amended notice applicable to TA-W-62,434 is hereby issued as follows:

All workers of Arrow Home Fashions, Division of BCP Home, Inc., including on-site leased workers of Adecco and Select Personnel, Anaheim, California, who became totally or partially separated from employment on or after November 6, 2006, through November 30, 2009, are eligible to apply for adjustment assistance under Section 223 of the Trade Act of 1974 and are also eligible to apply for alternative trade adjustment assistance under Section 246 of the Trade Act of 1974.

Signed at Washington, DC, this 30th day of July 2008
Richard Church,
Certifying Officer, Division of Trade Adjustment Assistance.

[FR Doc. E8-18165 Filed 8-6-08; 8:45 am]

BILLING CODE 4510-FN-P